DEPARTMENT OF HEALTH AND HUMAN SERVICES

Health Resources and Services Administration

Children's Hospitals Graduate Medical Education Payment Program (CHGME PP)

AGENCY: Health Resources and Services Administration, HHS.

ACTION: Notice of Children's Hospitals Graduate Medical Education Payment Program (CHGME PP) conference call.

SUMMARY: This document announces a scheduled CHGME PP conference call for Federal fiscal year (FY) 2005. The purpose of this conference call is to provide technical assistance related to the CHGME PP.

DATES: The conference call will be held on Wednesday, October 20, 2004 from 1:30 p.m. to 3:30 p.m. EST.

FOR FURTHER INFORMATION CONTACT: Ayah E. Johnson, Ph.D., telephone: (301) 443-1058; Division of Medicine and Dentistry, Bureau of Health Professions, Health Resources and Services Administration, Parklawn Building, 5600 Fishers Lane, Room 9A-05, Rockville, Maryland 20857; or by e-mail at: ajohnson@hrsa.gov.

SUPPLEMENTARY INFORMATION: The CHGME PP, as authorized by section 340E of the Public Health Service (PHS) Act (the Act) (42 U.S.C. 256e), provides funds to children's hospitals to address disparity in the level of Federal funding for children's hospitals that result from Medicare funding for graduate medical education (GME). Pub. L. 106-310 amended the CHGME statute to extend the program through FY 2005.

The statute authorized $280 million for both direct and indirect medical education payments in FY 2000, $285 million in FY 2001, and for each of the FY 2002 through FY 2005 such sums as necessary. Congress appropriated $303 million in FY 2004 for the CHGME PP. These funds have supported over 4,000 residents receiving training in children's teaching hospitals in 31 States.

The agenda for the conference calls will include but not be limited to: (1) Welcome and opening comments; (2) news releases/updates; (3) reminders; and (4) “on the horizon” topics of interest. Time will also be available for a question and answer period. Agenda items will be determined as priorities dictate.

Interested parties must register, in advance, but not later than 5 days prior to the scheduled conference call. Conference call registration forms and information about the Program can be found on the CHGME PP Web site. The Web site address is http://bhpr.hrsa.gov/childrenshospitalgme.

Dated: September 28, 2004.
Elizabeth M. Duke,
Administrator.

[FR Doc. 04-22282 Filed 10-1-04; 8:45 am]

BILLING CODE 4165-15-P